DEPARTMENT OF TRANSPORTATION

Federal Highway Administration

Environmental Impact Statement: El Paso County, TX

AGENCY: Federal Highway Administration (FHWA), DOT.

ACTION: Notice of Intent.

SUMMARY: The Federal Highway Administration is issuing this notice to advise the public that an Environmental Impact Statement (EIS) will be prepared for the proposed Loop 375 César Chávez Highway (Border Highway West Extension) in El Paso, Texas, to include the Texas, New Mexico, and Ciudad Juárez, Chihuahua México border region. The proposed project is part of an alternate route to provide congestion relief for Interstate 10 (I-10), an east-west facility north of the proposed project. The project is a key element in the Gateway 2030 Metropolitan Transportation Plan (MTP) prepared by the El Paso Metropolitan Planning Organization (MPO).

The proposed Border Highway West Extension would extend approximately 13.8 miles and would provide a continuous route from I-10 east of State Highway (SH) 20 (Mesa Street) to Sunland Park Drive continuing on Loop 375 to end at Untied States Highway (US) 54.

FOR FURTHER INFORMATION CONTACT: Mr. Donald Davis, District Engineer (South), Federal Highway Administration, Texas Division, 300 East 8th Street, Room 826, Austin, Texas 78701; Telephone (512) 536-5960.

SUPPLEMENTARY INFORMATION: The current facility exists as follows:

• Six-lane expressway from I-10 to Sunland Park.

• Four-lane facility along US 85 from New Mexico Route 273 to US 62 (Paisano Drive).

• Four-lane boulevard from Paisano Drive to Santa Fe Street.

• Four six-lane boulevard transitioning to a six-lane barrier separated controlled access facility from Santa Fe Street to US 54.

The proposed project would add capacity and upgrade the existing facility to a controlled access facility through the addition of two to four through-lanes (one to two lanes in each direction).

The Border Highway West Extension EIS will evaluate build and no-build alternatives. In addition to the build and no-build/no-action alternatives, Transportation System Management (TSM)/Transportation Demand Management (TDM), mass transit, and tolled and non-tolled alternatives will be examined. Also, the EIS will study potential impacts from construction and operation of the proposed roadway including, but not limited to, the following: transportation impacts (construction detours, construction traffic, mobility improvements), air and noise impacts from construction equipment and operation of the facilities, water quality impacts from construction area and roadway storm water runoff, impacts to waters of the United States, impacts to historic and archeological resources, impacts to floodplain, socio-economic resources (including Environmental Justice and Limited English Proficiency population) indirect and cumulative impacts, land use, vegetation, wildlife, impacts to and/or potential displacement of residences and businesses, and aesthetic and visual resources. Anticipated federal permits, pending selection of alternatives and field surveys may include, but are not limited to, the following: Section 106 (National Historic Preservation Act), Section 401/404 (Clean Water Act), and Section 7 (Endangered Species Act). A Project Coordination Plan will be provided in accordance with Public Law 109-59, Safe, Accountable, Flexible, Efficient Transportation Equity Act: A Legacy for Users (SAFETEA-LU), Title VI, Section 6002, Efficient Environmental Reviews for Project Decision Making, August 10, 2005, to facilitate and document the lead agencies; structured interaction with the public and other agencies and to inform the public and other agencies of how the coordination will be accomplished. The Project Coordination Plan will promote early and continuous involvement from stakeholders, agencies, and the public as well as described the proposed project, the roles of the agencies and the public, the project need and purpose, schedule, level of detail for alternatives analysis, methodologies to be used in the environmental analysis, and the proposed process for coordination and communication.

This Project Coordination Plan is designed to be part of a flexible and adaptable process. The Plan will be available for public review, inputs, and comments at public meetings, including scoping meetings and hearings held throughout the National Environmental Policy Act (NEPA) evaluation process, and upon request at the TxDOT El Paso District. Pursuant to 23 U.S.C. Chapter 1 Subchapter 1 Section 139 of SAFETEA-LU, cooperating agencies, participating agencies and the public will be given an opportunity for input in the development of the project. Two public scoping meetings, conducted in an open house format, are planned to be held in October 2007. These will be the first in a series of meetings to solicit public comments throughout the planning process on the proposed action as part of the national Environmental Policy Act (NEPA) process.

The scoping meetings will provide opportunities for participating agencies, cooperating agencies, and the public to be involved in defining the need and purpose for the proposed project, and to assist in determining the range of alternatives for consideration in the EIS and alternative evaluation methodologies. Notices of the public scoping meetings will be published in newspapers of general circulation in the project area at least 30 days prior to the meetings, and again approximately 10 days prior to the meetings. In addition to the public scoping meetings, correspondence describing the proposed action and soliciting comments to be considered during the scoping process will be sent to the appropriate federal, state, and local agencies, and to organizations and individuals who have previously expressed or are known to have an interest in the project. Public scoping meetings and public hearings will be held during appropriate phases of the project development process. Public notices will be given stating the date, time and location of each and will be published in English as well as Spanish. The Draft EIS will be available for public and agency review and comment prior to a public hearing.

To ensure that the full range of issues related to this proposed action are addressed and all significant issues identified, comments and suggestions are invited from all interested parties. Comments or questions concerning this proposed action and the EIS should be directed to FHWA at the address provided.

A proposed schedule for completion of the environmental review process is not available at this time; however, will become accessible for public review at a futures date.

(Catalog of Federal Domestic Assistance program Number 20.205 Highway Planning and Construction. The regulations implementing Executive Order 12372 regarding intergovernmental consultation on Federal programs and activities apply to this program.)

Donald Davis,
District Engineer, FHWA texas Division.

[FR Doc. 07-4375 Filed 9-6-07; 8:45 am]

BILLING CODE 4910-22-M